DEPARTMENT OF THE INTERIOR

Bureau of Land Management

[LLAZC02000 LF2200000.DD0000 LFESF3X30000]

Notice of Temporary Closure of Betty's Kitchen Wildlife and Interpretive Area, Yuma County, AZ

AGENCY: Bureau of Land Management, Interior.

ACTION: Notice.

SUMMARY: Pursuant to the Federal Land Policy and Management Act and Bureau of Land Management (BLM) regulations, notice is hereby given that the Betty's Kitchen Wildlife and Interpretive Area (Betty's Kitchen) located on Federal lands administered by the Yuma Field Office, BLM, is temporarily closed to motorized vehicle and public use.

DATES: The closure will be enforced immediately and will remain in effect for 2 years following the date this notice is published in the Federal Register or until rescinded or modified by the authorized officer or designated Federal officer.

FOR FURTHER INFORMATION, CONTACT: John MacDonald, Yuma Field Manager, at 2555 East Gila Ridge Road, Yuma, Arizona 85365, via email at jmacdona@blm.gov, or telephone 928-317-3200. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This Temporary Closure affects Federal lands at Betty's Kitchen in Yuma County, Arizona. The legal description of the affected Federal lands is:

Arizona

Gila and Salt River Meridian

Township 7 South, Range 22 West,

Section 14, SE¼SW¼ (within), SW¼SE¼ (within).

The area described contains approximately 15 acres.

Closure of Betty's Kitchen is necessary to allow for the restoration of the area and avoid exposing the public to safety hazards caused by the Laguna Fire.

The BLM Laguna Emergency Stabilization and Rehabilitation Environmental Assessment (EA) (DOI-BLM-AZ-C020-2011-0018-EA) signed on September 28, 2011, states, “Human health and safety would be greatly affected from the remaining hazardous trees throughout the project area. Unless hazardous trees are removed, the recreation area would need to remain closed to the public.” In order to implement the EA's proposed remediation actions, unscheduled heavy equipment may be operating in the area to remove the hazards over the next 2 years as funding and scheduling opportunities allow. A temporary closure is needed to reduce or eliminate the likelihood of accidents to visitors while fishing, picnicking, camping, or pursuing other activities in the vicinity of the existing and static hazards before or while work is occurring. In addition, improvements to recreational facilities and the addition of new bridges will enhance visitor enjoyment and safety when completed. Immediately after the removal and hazard remediation work is completed, the closure will be lifted.

Exemptions: The following persons are exempt from this order: Federal, State, and local law enforcement officers and employees in the performance of their official duties; members of organized rescue or firefighting forces in the performance of their official duties; and persons with written authorization from the BLM.

Penalties: Any person who violates the above rule may be tried before a United States Magistrate and fined no more than $1,000, imprisoned for no more than 12 months, or both. Violators may also be subject to the enhanced fines provided for in 18 U.S.C. 3571.

Authority: 43 CFR 8364.1.

John MacDonald,
Field Manager.

[FR Doc. 2012-17849 Filed 7-20-12; 8:45 am]

BILLING CODE 4310-32-P